DEPARTMENT OF TRANSPORTATION

Federal Aviation Administration

14 CFR Part 39

[Docket No. FAA-2010-0222; Directorate Identifier 2008-NM-012-AD]

RIN 2120-AA64

Airworthiness Directives; BAE SYSTEMS (Operations) Limited Model Avro 146-RJ and BAe 146 Airplanes

AGENCY: Federal Aviation Administration (FAA), DOT.

ACTION: Notice of proposed rulemaking (NPRM).

SUMMARY: We propose to adopt a new airworthiness directive (AD) for the products listed above. This proposed AD results from mandatory continuing airworthiness information (MCAI) originated by an aviation authority of another country to identify and correct an unsafe condition on an aviation product. The MCAI describes the unsafe condition as:

A potential fleet wide problem has been identified regarding the interchanging of wing links on all BAe 146 & AVRO 146-RJ aircraft during scheduled maintenance. Some operators erroneously believed that these parts were interchangeable. The effects of changing winglinks has resulted in either a shorter or longer wing link being fitted, which introduces local stresses in the wing top and bottom surfaces local to rib 2, wing links and wing link fitting attachment and the fuselage local to Frames 26 and 29. This condition, if not corrected, could result in a reduction of structural integrity of the fuselage/wing attachment with possible catastrophic consequences.

The unsafe condition could result in loss of a wing or controllability of the airplane. The proposed AD would require actions that are intended to address the unsafe condition described in the MCAI.

DATES: We must receive comments on this proposed AD by April 29, 2010.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

For service information identified in this proposed AD, contact BAE Systems Regional Aircraft, 13850 McLearen Road, Herndon, Virginia 20171; telephone 703-736-1080; e-mail raebusiness@baesystems.com; Internet http://www.baesystems.com/Businesses/RegionalAircraft/index.htm. You may review copies of the referenced service information at the FAA, Transport Airplane Directorate, 1601 Lind Avenue, SW., Renton, Washington. For information on the availability of this material at the FAA, call 425-227-1221 or 425-227-1152.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Todd Thompson, Aerospace Engineer, International Branch, ANM-116, Transport Airplane Directorate, FAA, 1601 Lind Avenue, SW., Renton, Washington 98057-3356; telephone (425) 227-1175; fax (425) 227-1149.

SUPPLEMENTARY INFORMATION:

Comments Invited

We invite you to send any written relevant data, views, or arguments about this proposed AD. Send your comments to an address listed under the ADDRESSES section. Include “Docket No. FAA-2010-0222; Directorate Identifier 2008-NM-012-AD” at the beginning of your comments. We specifically invite comments on the overall regulatory, economic, environmental, and energy aspects of this proposed AD. We will consider all comments received by the closing date and may amend this proposed AD based on those comments.

We have lengthened the 30-day comment period for proposed ADs that address MCAI originated by aviation authorities of other countries to provide adequate time for interested parties to submit comments. The comment period for these proposed ADs is now typically 45 days, which is consistent with the comment period for domestic transport ADs.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2008-0003, dated January 8, 2008 (referred to after this as “the MCAI”), to correct an unsafe condition for the specified products. The MCAI states:

A potential fleet wide problem has been identified regarding the interchanging of wing links on all BAe 146 & AVRO 146-RJ aircraft during scheduled maintenance. Some operators erroneously believed that these parts were interchangeable. The effects of changing winglinks has resulted in either a shorter or longer wing link being fitted, which introduces local stresses in the wing top and bottom surfaces local to rib 2, wing links and wing link fitting attachment and the fuselage local to Frames 26 and 29. This condition, if not corrected, could result in a reduction of structural integrity of the fuselage/wing attachment with possible catastrophic consequences.

For the reasons described above, the present Airworthiness Directive (AD) requires the accomplishment of inspections and rectification actions, as necessary.

The unsafe condition could result in loss of a wing or controllability of the airplane. The inspections include inspecting wing links for incorrect part numbers (i.e., parts that are not original), inspecting to determine wing geometry measurements, and inspecting the wing link, bores, bolts, and nuts for corrosion. Corrective actions include installing wing-to-fuselage fairings and repairing. You may obtain further information by examining the MCAI in the AD docket.

Relevant Service Information

BAE Systems (Operations) Limited has issued Inspection Service Bulletin ISB.53-175, Revision 1, dated April 2, 2007. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

Based on the service information, we estimate that this proposed AD would affect about 1 product of U.S. registry. We also estimate that it would take about 180 work-hours per product to comply with the basic requirements of this proposed AD. The average labor rate is $85 per work-hour. Required parts would cost about $0 per product. Where the service information lists required parts costs that are covered under warranty, we have assumed that there will be no charge for these costs. As we do not control warranty coverage for affected parties, some parties may incur costs higher than estimated here. Based on these figures, we estimate the cost of the proposed AD on the U.S. operator to be $15,300.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

BAE SYSTEMS (Operations) Limited: Docket No. FAA-2010-0222; Directorate Identifier 2008-NM-012-AD.

Comments Due Date

(a) We must receive comments by April 29, 2010.

Affected ADs

(b) None.

Applicability

(c) This AD applies to BAE Systems (Operations) Limited Model BAe 146-100A, -200A, and -300A; and Avro 146-RJ70A, 146-RJ85A, and 146-RJ100A airplanes; all serial numbers; certificated in any category; as identified in paragraph 1.A.(1) of BAE (Operations) Limited Inspection Service Bulletin ISB.53-175, Revision 1, dated April 2, 2007.

Subject

(d) Air Transport Association (ATA) of America Code 57: Wings.

Reason

(e) The mandatory continuing airworthiness information (MCAI) states:

“A potential fleet wide problem has been identified regarding the interchanging of wing links on all BAe 146 & AVRO 146-RJ aircraft during scheduled maintenance. Some operators erroneously believed that these parts were interchangeable. The effects of changing winglinks has resulted in either a shorter or longer wing link being fitted, which introduces local stresses in the wing top and bottom surfaces local to rib 2, wing links and wing link fitting attachment and the fuselage local to Frames 26 and 29. This condition, if not corrected, could result in a reduction of structural integrity of the fuselage/wing attachment with possible catastrophic consequences.

“For the reasons described above, the present Airworthiness Directive (AD) requires the accomplishment of inspections and rectification actions, as necessary.”

The unsafe condition could result in loss of a wing or controllability of the airplane. The inspections include inspecting wing links for incorrect part numbers (i.e., parts that are not original), inspecting to determine wing geometry measurements, and inspecting the wing link, bores, bolts, and nuts for corrosion. Corrective actions include installing wing-to-fuselage fairings and repairing.

Compliance

(f) You are responsible for having the actions required by this AD performed within the compliance times specified, unless the actions have already been done.

Actions

(g) Do the following actions.

(1) For airplanes subject to Maintenance Review Board Report (MRBR) requirements: Within 30 days after the effective date of this AD, revise the supplemental structural inspection (SSI) portion of the airplane inspection schedule, in accordance with paragraph 1.D.(2) of BAE SYSTEMS (Operations) Limited Inspection Service Bulletin ISB.53-175, Revision 1, dated April 2, 2007. Do the initial inspection at the applicable time, and repeat at the applicable intervals, as specified in Appendix 3 of BAE SYSTEMS (Operations) Limited Inspection Service Bulletin ISB.53-175, Revision 1, dated April 2, 2007. Where Appendix 3 of BAE SYSTEMS (Operations) Limited Inspection Service Bulletin ISB.53-175, Revision 1, dated April 2, 2007, does not specify a compliance time in either flight cycles or in flight hours, use flight cycles.

(2) For airplanes subject to MRBR requirements: Accomplishing the inspections and all applicable corrective actions of paragraph 1.D.(3) of BAE SYSTEMS (Operations) Limited Inspection Service Bulletin ISB.53-175, Revision 1, dated April 2, 2007, terminates the revisions to the SSI portion of the airplane inspection schedule incorporated in accordance with paragraph (g)(1) of this AD, provided that if any corrosion is found during any inspection specified in “Part C” or “Part D” of paragraph 2.C. of BAE SYSTEMS (Operations) Limited Inspection Service Bulletin ISB.53-175, Revision 1, dated April 2, 2007, repair is accomplished before further flight using a method approved by the Manager, International Branch, ANM 116, Transport Airplane Directorate, FAA, or EASA (or its delegated agent).

(3) For operational airplanes subject to MRBR-to-Supplemental-Structural-Inspection-Document (SSID) transition requirements or to SSID requirements: Within 5,000 flight cycles after the effective date of this AD, do the inspections and all applicable corrective actions, in accordance with paragraph 2.C. of the Accomplishment Instructions of BAE SYSTEMS (Operations) Limited Inspection Service Bulletin ISB.53-175, Revision 1, dated April 2, 2007, except if any corrosion is found during any inspection specified in “Part C” or “Part D” of paragraph 2.C. of BAE SYSTEMS (Operations) Limited Inspection Service Bulletin ISB.53-175, Revision 1, dated April 2, 2007, repair must be accomplished using a method approved by the Manager, International Branch, ANM 116, Transport Airplane Directorate, FAA, or EASA (or its delegated agent). Do all applicable corrective actions before further flight, except that replacements of all the wing links that are not within the specified tolerance must be done before the airplane reaches its MRBR airframe life limit.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

(4) For any inspection done in accordance with paragraph (g)(2) or (g)(3) of this AD: Send reports to BAE SYSTEMS, Customer Liaison, Customer Support (Building 37), BAE SYSTEMS (Operations) Limited, Prestwick International Airport, Ayrshire, KA9 2RW, Scotland, Fax +44 (0) 1292 675432, e-mail raengliason@baesystems.com, at the applicable time in paragraph (g)(4)(i) or (g)(4)(ii) of this AD. The report must include the inspection results, a description of any discrepancies found, the airplane serial number, and the number of landings and flight hours on the airplane.

(i) If the inspection was done on or after the effective date of this AD: Submit the report within 30 days after the inspection.

(ii) If the inspection was done before the effective date of this AD: Submit the report within 30 days after the effective date of this AD.

(5) For airplanes that are non-operational as of the effective date of this AD and that are subject to MRBR-to-SSID transition requirements or to SSID requirements: Before returning any airplane to service, do the inspections and all applicable corrective actions, in accordance with paragraph 2.C. of the Accomplishment Instructions of BAE SYSTEMS (Operations) Limited Inspection Service Bulletin ISB.53-175, Revision 1, dated April 2, 2007, except if any corrosion is found during any inspection specified in “Part C” or “Part D” of paragraph 2.C. of BAE SYSTEMS (Operations) Limited Inspection Service Bulletin ISB.53-175, Revision 1, dated April 2, 2007, repair must be accomplished using a method approved by the Manager, International Branch, ANM 116, Transport Airplane Directorate, FAA, or EASA (or its delegated agent).

(6) Actions accomplished before the effective date of this AD in accordance with BAE SYSTEMS (Operations) Limited Inspection Service Bulletin ISB.53-175, dated December 21, 2006, are considered acceptable for compliance with the corresponding action specified in this AD.

FAA AD Differences

Note 2: This AD differs from the MCAI and/or service information as follows: The MCAI does not specify a corrective action if corrosion is found during accomplishment of the actions specified in “Part C” and “Part D” of paragraph 2.C. of BAE SYSTEMS (Operations) Limited Inspection Service Bulletin ISB.53-175, Revision 1, dated April 2, 2007. This AD requires that if any corrosion is found, a repair must be done in accordance with a method approved by the FAA or EASA (or its delegated agent).

Other FAA AD Provisions

(h) The following provisions also apply to this AD:

(1) Alternative Methods of Compliance (AMOCs): The Manager, International Branch, ANM-116, FAA, has the authority to approve AMOCs for this AD, if requested using the procedures found in 14 CFR 39.19. Send information to ATTN: Todd Thompson, Aerospace Engineer, International Branch, ANM-116, Transport Airplane Directorate, FAA, 1601 Lind Avenue, SW., Renton, Washington 98057-3356; telephone (425) 227-1175; fax (425) 227-1149. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(i) Refer to MCAI EASA Airworthiness Directive 2008-0003, dated January 8, 2008; and BAE SYSTEMS (Operations) Limited Inspection Service Bulletin ISB.53-175, Revision 1, dated April 2, 2007; for related information.

Issued in Renton, Washington on March 4, 2010.
Suzanne Masterson,
Acting Manager, Transport Airplane Directorate, Aircraft Certification Service.

[FR Doc. 2010-5513 Filed 3-12-10; 8:45 am]

BILLING CODE 4910-13-P